EXPORT-IMPORT BANK OF THE UNITED STATES

[Public Notice: 2015-6011]

Agency Information Collection Activities: Comment Request

AGENCY: Export-Import Bank of the United States.

ACTION: Submission for OMB review and comments request.

Form Title: EIB 05-01 Marketing Fax Back Response Form.

SUMMARY: The Export-Import Bank of the United States (Ex-Im Bank), as a part of its continuing effort to reduce paperwork and respondent burden, invites the general public and other Federal Agencies to comment on the proposed information collection, as required by the Paperwork Reduction Act of 1995.

The Marketing Fax Back Response Form is used to collect basic information on United States companies. This information will be provided the Export Import Bank's financial consultants nationwide and will be used to provide assistance to exporters.

The form may be viewed at www.exim.gov/pub/pending/eib05-01.pdf Marketing Fax Back Response Forms.

DATES: Comments should be received on or before August 25, 2015, to be assured of consideration.

ADDRESSES: Comments may be submitted electronically on www.regulations.gov or by mail to Michelle Kuester, Export-Import Bank of the United States, 811 Vermont Ave. NW., Washington, DC 20571 Attn:

SUPPLEMENTARY INFORMATION: Title and Form Number: EIB 05-01 Marketing Fax Back Response Form.

OMB Number: 3048-0029.

Type of Review: Regular.

Need and Use: The Marketing Fax Back Response Form is used to collect basic information on United States companies. This information will be provided to the Export-Import Bank's financial consultants nationwide to assist in providing counsel to exporters.

Affected Public:

This form affects entities involved in the export of U.S. goods and services.

Annual Number of Respondents: 500.

Estimated Time per Respondent: 5 minutes.

Annual Burden Hours: 42 hours.

Frequency of Reporting of Use: Once per year.

Government Expenses:

Reviewing time per year: 25 hours.

Average Wages per Hour: $42.50.

Average Cost per Year: $1,062.5 (time*wages).

Benefits and Overhead: 20%.

Total Government Cost: $1,275.

Bonita Jones-McNeil,
Agency Clearance Officer, Office of the Chief Information Officer.

[FR Doc. 2015-15783 Filed 6-25-15; 8:45 am]

BILLING CODE 6690-01-P